DEPARTMENT OF TRANSPORTATION

Federal Aviation Administration

Public Notice for Waiver of Aeronautical Land-Use Assurance, J. Douglas Bake Memorial Airport, Oconto, WI

AGENCY: Federal Aviation Administration, DOT.

ACTION: Notice of intent of waiver with respect to land.

SUMMARY: The Federal Aviation Administration (FAA) is considering a proposal to authorize the release of a portion of the airport property. The City of Oconto WI is proposing to swap 13.9 acres of existing airport land for 13.9 acres of land from an adjacent landowner. The swap will allow the airport to acquire land in fee that lies under the approach to Runway 22. Both parcels are vacant land in the northeast corner of the airport and are deemed of equal value. The acreage being released is not needed for aeronautical use as currently identified on the Airport Layout Plan.

The acreage comprising this parcel was originally acquired under Grant No. AIP 3-55-SBGP-20-04 (Oconto AIP--06). The City of Oconto (Wisconsin), as airport owner, has concluded that the subject airport land is not needed for expansion of airport facilities. There are no impacts to the airport by allowing the airport to dispose of the property. No revenue will be derived as the parcels are of the same value. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before March 15, 2006.

FOR FURTHER INFORMATION CONTACT: Ms. Sandra E. DePottey, Program Manager, Federal Aviation Administration, Airports District Office, 6020 28th Avenue South, Room 102, Minneapolis, MN 55450-2706. Telephone number (612) 713-4350/Fax number (612) 713-4364. Documents reflecting this FAA action may be reviewed at this same location or at the J. Douglas Bake Memorial Airport, 2983 Airport Road, Oconto WI 54153.

SUPPLEMENTARY INFORMATION: Following is a legal description of the subject airport property to be released at J. Douglas Bake Memorial Airport in Oconto, Wisconsin and described as follows:

A parcel of land located in part of Government Lot 6, Section 24, City of Oconto, and part of the Northwest Quarter of the Northwest Quarter, section 25, Town of Oconto all in township 28 North, Range 21 East, Oconto County, Wisconsin.

Said parcel subject to all easements, restrictions, and reservations of record.

Dated: Issued in Minneapolis, MN on January 19, 2006.
Robert A. Huber,
Acting Manager, Minneapolis Airports District Office, FAA, Great Lakes Region.

[FR Doc. 06-1315 Filed 2-10-06; 8:45 am]

BILLING CODE 4910-13-M